COMMISSION ON CIVIL RIGHTS

Agenda and Notice of Public Meeting of the Montana Advisory Committee

Notice is hereby given, pursuant to the provisions of the rules and regulations of the U.S. Commission on Civil Rights, that a conference call of the Montana Advisory Committee to the Commission will convene at 12 p.m. and adjourn at 1:15 p.m. (MDT) on Monday, May 19, 2003. The purpose of this conference call will be to brief on the follow-up activities to the Committee's report Equal Educational Opportunity for Native American students in Montana Public Schools. In addition, the committee hopes to hear from person who, among other things, will: discuss efforts to develop a statewide tribal education department that collaborates with the Office of Public Instruction, and report on services provided by the Public Defender's Office to indigent clients.

This conference call is available to the public through the following call-in number: 1-800-923-4216, access code: 16800432. Any interested member of the public may call this number and listen to the meeting. Callers can expect to incur charges for calls not initiated using the supplied call-in number or made over wireless lines, and the Commission will not refund any incurred charges. Callers will incur no charge for calls using the call-in number over land-line connections. Persons with hearing impairments may also follow the proceedings by first calling the Federal Relay Service at 1-800-977-8339 and providing the Service with the conference call number and access code.

To ensure that the Commission secures an appropriate number of lines for the public, persons are asked to register by contacting, John Dulles, Director of the Rocky Mountain Regional Office, 303-866-1040 (TDD 303-866-1049), by 4:00 p.m. on Friday May 17, 2003.

The meeting will be conducted pursuant to the provisions of the rules and regulations of the Commission.

Dated at Washington, DC, May 7, 2003.
Ivy L. Davis,
Chief, Regional Programs Coordination Unit.

[FR Doc. 03-12642 Filed 5-15-03; 8:45 am]

BILLING CODE 6335-01-M